DEPARTMENT OF COMMERCE

International Trade Administration

[A-570-836]

Notice of Amended Final Results of Antidumping Duty Administrative Review: Glycine from the People's Republic of China

AGENCY: Import Administration, International Trade Administration, Department of Commerce.

EFFECTIVE DATE: September 22, 2009.

FOR FURTHER INFORMATION CONTACT: Angelica Mendoza or Dena Crossland, Import Administration, International Trade Administration, U.S. Department of Commerce (“the Department”), 14th Street and Constitution Avenue, NW, Washington, DC 20230; telephone: (202) 482-3019 or (202) 482-3362, respectively.

SUPPLEMENTARY INFORMATION:

Amendment to the Final Results

In accordance with sections 751(a) and 777(i)(1) of the Tariff Act of 1930, as amended, (“the Act”), on August 6, 2009, the Department issued its final results in the administrative review of the antidumping duty order on glycine from the People's Republic of China (“PRC”), covering the March 1, 2007, through February 29, 2008, period. The final results were subsequently released to all parties in the proceeding, and published in the Federal Register on August 14, 2009. See Glycine from the People's Republic of China: Final Results of Antidumping Duty Administrative Review, 74 FR 41121 (August 14, 2009) (“Glycine Final Results”). On August 17, 2009, and pursuant to 19 CFR 351.224(c)(2), we received a timely-filed allegation from the domestic interested producer participating in this administrative review, GEO Specialty Chemicals, Inc. (“GEO”), that the Department made ministerial errors with respect to its final dumping margin calculation for respondent Baoding Mantong Fine Chemistry Co., Ltd. (“Baoding Mantong”). See Letter from GEO Specialty Chemicals, Inc. to the Department of Commerce, regarding “Ministerial Error Comments,” dated August 17, 2009 (“GEO Ministerial Letter”). On August 21, 2009, we received comments from Baoding Mantong regarding the ministerial errors alleged by GEO. See Letter from Baoding Mantong Fine Chemistry Co., Ltd. to the Department of Commerce, regarding “Response to Petitioner's Ministerial Error Allegations,” dated August 21, 2009 (“Baoding Mantong Response Letter”). For a discussion of the Department's analysis of the allegations in the GEO Ministerial Letter and rebuttal comments in the Baoding Mantong Response Letter, see Memorandum from Dena Crossland to Richard O. Weible, entitled, “Ministerial Errors Allegation in the Final Results of the Antidumping Duty Administrative Review of Glycine from the People's Republic of China: Baoding Mantong Fine Chemistry Co., Ltd.,” dated September 14, 2009.

A ministerial error includes “errors in addition, subtraction, or other arithmetic function, clerical errors resulting from inaccurate copying, duplication, or the like, and any other type of unintentional error which {the Department} considers ministerial.” Section 751(h) of the Act; see also 19 CFR 351.224(f). In the GEO Ministerial Letter, GEO alleges that the Department made two ministerial errors in calculating Baoding Mantong's dumping margin for the final results of this administrative review. First, GEO alleges that the Department made a ministerial error by not converting the Chemical Weekly value for methanol from a per-liter to a per-kilogram basis. Additionally, GEO argues that the Department should not have multiplied Chemical Weekly prices for formaldehyde from the period of review by a 37.2-percent concentration level (a simple average of the concentration levels that Baoding Mantong reported for the formaldehyde it consumes in the production of glycine) because Chemical Weekly prices were already based on a 37-percent concentration level, rather than a 100-percent concentration level.

After analyzing GEO's ministerial error comments and Baoding Mantong's rebuttal comments, we have determined, in accordance with 19 CFR 351.224(e), that we made the following ministerial error with respect to our final dumping margin calculation for Baoding Mantong: the Department inadvertently did not convert the Chemical Weekly value for methanol from a per-liter basis to a per-kilogram basis. See GEO Ministerial Letter; see also Administrative Review of Glycine from the People's Republic of China: Surrogate Values for the Preliminary Results, dated March 31, 2009, at 6 and Attachment 5B, and 2007/2008 Antidumping Duty Administrative Review of Glycine from the People's Republic of China: Program Analysis for the Final Results, dated August 6, 2009, at Attachment 3. The Department has revised its calculation of the surrogate value for methanol to be consistent with Baoding Mantong's reporting of its methanol input, as originally intended by the Department.

With respect to GEO's allegation that the Department erred in its calculation of the surrogate value for formaldehyde, we find that the alleged error does not meet the definition of ministerial error pursuant to 19 CFR 351.224(f) and is methodological in nature. Specifically, it is clear from the record that the Department intended to adjust the surrogate value for formaldehyde by 37.2 percent, which is a simple average of the concentration levels that Baoding Mantong reported for the formaldehyde it consumes in the production of the subject merchandise. Therefore, we have not changed our surrogate value for formaldehyde.

Therefore, in accordance with 19 CFR 351.224(e), we are amending the final results in this antidumping duty administrative review of glycine from the PRC. After correcting the ministerial error with respect to Baoding Mantong's methanol input, the amended final weighted-average dumping margin is as follows:

Manufacturer/Exporter | Final Results Weighted-Average Margin Percentage | Amended Final Weighted-Average Margin Percentage
Baoding Mantong Fine Chemistry Co., Ltd. | 33.67 | 37.18

Assessment Rates

The Department intends to issue assessment instructions to U.S. Customs and Border Protection (“CBP”) 15 days after the date of publication of these amended final results of review. In accordance with 19 CFR 351.212(b)(1), we have calculated importer-specific assessment rates for merchandise subject to this review.

Cash Deposit Requirements

The following deposit requirements will be effective retroactively on any entries made on or after August 14, 2009, the date of publication of the Final Results, for all shipments of subject merchandise entered, or withdrawn from warehouse, for consumption as provided by section 751(a)(2)(C) of the Act: (1) For Baoding Mantong, which has a separate rate, the cash deposit rate will be the company-specific rate shown above; (2) for previously reviewed or investigated companies not listed above that have a separate rate, the cash deposit rate will continue to be the company-specific rate published for the most recent period; (3) the cash deposit rate for all other PRC exporters will be 155.89 percent, the current PRC-wide rate; and (4) the cash deposit rate for all non-PRC exporters will be the rate applicable to the PRC exporter that supplied that exporter. These cash deposit requirements will remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a) and 777(i) of the Act.

Dated: September 14, 2009.
Carole Showers,
Acting Deputy Assistant Secretary for Policy and Negotiations.

[FR Doc. E9-22837 Filed 9-21-09; 8:45 am]

BILLING CODE 3510-DS-S